DEPARTMENT OF ENERGY

Federal Energy Regulatory Commission

Combined Notice of Filings No. 1

November 1, 2010.

Take notice that the Commission has received the following Natural Gas Pipeline Rate and Refund Report filings:

Docket Numbers: RP11-1438-000.

Applicants: Sabine Pipe Line LLC.

Description: Sabine Pipe Line LLC submits tariff filing per 154.204: Imbalance Cash Outs to be effective 12/1/2010.

Filed Date: 10/28/2010.

Accession Number: 20101028-5056.

Comment Date: 5 p.m. Eastern Time on Tuesday, November 9, 2010.

Docket Numbers: RP11-1439-000.

Applicants: Equitrans, L.P.

Description: Equitrans, L.P. submits tariff filing per 154.204: Non-Conforming & Negotiated Rate Agreement Filing to be effective 11/1/2010.

Filed Date: 10/28/2010.

Accession Number: 20101028-5080.

Comment Date: 5 p.m. Eastern Time on Tuesday, November 9, 2010.

Docket Numbers: RP11-1440-000.

Applicants: Transcontinental Gas Pipe Line Company.

Description: Transcontinental Gas Pipe Line Company, LLC submits tariff filing per 154.204: Negotiated Rate Agreement Filing for PSNC to be effective 11/1/2010.

Filed Date: 10/28/2010.

Accession Number: 20101028-5100.

Comment Date: 5 p.m. Eastern Time on Tuesday, November 9, 2010.

Docket Numbers: RP11-1441-000.

Applicants: Trailblazer Pipeline Company LLC.

Description: Trailblazer Pipeline Company LLC submits tariff filing per 154.204: Negotiated Rate Filing to be effective 11/1/2010.

Filed Date: 10/28/2010.

Accession Number: 20101028-5126.

Comment Date: 5 p.m. Eastern Time on Tuesday, November 9, 2010.

Docket Numbers: RP11-1442-000.

Applicants: Horizon Pipeline Company, L.L.C.

Description: Horizon Pipeline Company, L.L.C. submits tariff filing per 154.204: Negotiated Rate Filing to be effective 11/1/2010.

Filed Date: 10/28/2010.

Accession Number: 20101028-5134.

Comment Date: 5 p.m. Eastern Time on Tuesday, November 9, 2010.

Docket Numbers: RP11-1443-000.

Applicants: Gulf South Pipeline Company, LP.

Description: Gulf South Pipeline Company, LP submits tariff filing per 154.204: Enerquest-Trans Louisiana CR to be effective 11/1/2010.

Filed Date: 10/28/2010.

Accession Number: 20101028-5138.

Comment Date: 5 p.m. Eastern Time on Tuesday, November 9, 2010.

Docket Numbers: RP11-1444-000.

Applicants: Equitrans, L.P.

Description: Equitrans, L.P. submits tariff filing per 154.204: Operational Purchases and Sales to be effective 11/28/2010.

Filed Date: 10/28/2010.

Accession Number: 20101028-5143.

Comment Date: 5 p.m. Eastern Time on Tuesday, November 9, 2010.

Docket Numbers: RP11-1445-000.

Applicants: Southern LNG Company, L.L.C.

Description: Southern LNG Company, L.L.C. submits tariff filing per 154.204: SLNG Electric Power Cost Adjustment to be effective 12/1/2010.

Filed Date: 10/29/2010.

Accession Number: 20101029-5034.

Comment Date: 5 p.m. Eastern Time on Wednesday, November 10, 2010.

Docket Numbers: RP11-1446-000.

Applicants: Midwestern Gas Transmission Company.

Description: Midwestern Gas Transmission Company Annual Cash Out Report for 2010.

Filed Date: 10/29/2010.

Accession Number: 20101029-5036.

Comment Date: 5 p.m. Eastern Time on Wednesday, November 10, 2010.

Docket Numbers: RP11-1447-000.

Applicants: National Fuel Gas Supply Corporation.

Description: National Fuel Gas Supply Corporation submits tariff filing per 154.203: IG Rate—November 2010 to be effective 11/1/2010.

Filed Date: 10/29/2010.

Accession Number: 20101029-5040.

Comment Date: 5 p.m. Eastern Time on Wednesday, November 10, 2010.

Docket Numbers: RP11-1448-000.

Applicants: Gulf South Pipeline Company, LP.

Description: Gulf South Pipeline Company, LP submits tariff filing per 154.204: HK-Texla Capacity Release to be effective 11/1/2010.

Filed Date: 10/29/2010.

Accession Number: 20101029-5079.

Comment Date: 5 p.m. Eastern Time on Wednesday, November 10, 2010.

Docket Numbers: RP11-1449-000.

Applicants: Freebird Gas Storage, L.L.C.

Description: Freebird Gas Storage, L.L.C. submits tariff filing per 154.203: Freebird Gas Storage Order No. 587-U Compliance Filing to be effective 11/1/2010.

Filed Date: 10/29/2010.

Accession Number: 20101029-5105.

Comment Date: 5 p.m. Eastern Time on Wednesday, November 10, 2010.

Docket Numbers: RP11-1450-000.

Applicants: Kinder Morgan Interstate Gas Transmission LLC.

Description: Kinder Morgan Interstate Gas Transmission LLC submits tariff filing per 154.204: Negotiated Rate 2010-10-29 Concord to be effective 11/1/2010.

Filed Date: 10/29/2010.

Accession Number: 20101029-5109.

Comment Date: 5 p.m. Eastern Time on Wednesday, November 10, 2010.

Docket Numbers: RP11-1451-000.

Applicants: El Paso Natural Gas Company.

Description: El Paso Natural Gas Company submits tariff filing per 154.204: Re-Designation Update to be effective 11/29/2010.

Filed Date: 10/29/2010.

Accession Number: 20101029-5113.

Comment Date: 5 p.m. Eastern Time on Wednesday, November 10, 2010.

Docket Numbers: RP11-1452-000.

Applicants: Algonquin Gas Transmission, LLC.

Description: Algonquin Gas Transmission, LLC submits tariff filing per 154.204: Negotiated Rate Agreement 11-1-2010—J Aron to be effective 11/1/2010.

Filed Date: 10/29/2010.

Accession Number: 20101029-5115.

Comment Date: 5 p.m. Eastern Time on Wednesday, November 10, 2010.

Docket Numbers: RP11-1453-000.

Applicants: Algonquin Gas Transmission, LLC.

Description: Algonquin Gas Transmission, LLC submits tariff filing per 154.204: Negotiated Rate Agreements 11-1-2010—BG Energy to be effective 11/1/2010.

Filed Date: 10/29/2010.

Accession Number: 20101029-5116.

Comment Date: 5 p.m. Eastern Time on Wednesday, November 10, 2010.

Docket Numbers: RP11-1454-000.

Applicants: Algonquin Gas Transmission, LLC.

Description: Algonquin Gas Transmission, LLC submits tariff filing per 154.204: Negotiated Rate Agreement 11-1-2010—BP Energy to be effective 11/1/2010.

Filed Date: 10/29/2010.

Accession Number: 20101029-5117.

Comment Date: 5 p.m. Eastern Time on Wednesday, November 10, 2010.

Docket Numbers: RP11-1455-000.

Applicants: Algonquin Gas Transmission, LLC.

Description: Algonquin Gas Transmission, LLC submits tariff filing per 154.204: Negotiated Rate Agreement 11-1-2010—Emera to be effective 11/1/2010.

Filed Date: 10/29/2010.

Accession Number: 20101029-5119.

Comment Date: 5 p.m. Eastern Time on Wednesday, November 10, 2010.

Docket Numbers: RP11-1456-000.

Applicants: Algonquin Gas Transmission, LLC.

Description: Algonquin Gas Transmission, LLC submits tariff filing per 154.204: Negotiated Rate Agreement 11-1-2010—Hess to be effective 11/1/2010.

Filed Date: 10/29/2010.

Accession Number: 20101029-5121.

Comment Date: 5 p.m. Eastern Time on Wednesday, November 10, 2010.

Docket Numbers: RP11-1457-000.

Applicants: Algonquin Gas Transmission, LLC.

Description: Algonquin Gas Transmission, LLC submits tariff filing per 154.204: Negotiated Rate Agreement 11-1-2010—Tenaska to be effective 11/1/2010.

Filed Date: 10/29/2010.

Accession Number: 20101029-5122.

Comment Date: 5 p.m. Eastern Time on Wednesday, November 10, 2010.

Docket Numbers: RP11-1458-000.

Applicants: MarkWest Pioneer, L.L.C.

Description: MarkWest Pioneer, L.L.C. submits tariff filing per 154.403(d)(2): Interim Fuel Adjustment Filing to be effective 11/1/2010.

Filed Date: 10/29/2010.

Accession Number: 20101029-5126.

Comment Date: 5 p.m. Eastern Time on Wednesday, November 10, 2010.

Docket Numbers: RP11-1459-000.

Applicants: Midwestern Gas Transmission Company.

Description: Midwestern Gas Transmission Company submits tariff filing per 154.204: Non Conforming Agreement—Chevron to be effective 11/1/2010.

Filed Date: 10/29/2010.

Accession Number: 20101029-5133.

Comment Date: 5 p.m. Eastern Time on Wednesday, November 10, 2010.

Docket Numbers: RP11-1460-000.

Applicants: Trunkline Gas Company, LLC.

Description: Trunkline Gas Company, LLC submits tariff filing per 154.203: Annual Interruptible Storage Rev. Credit Surcharge Adjustment to be effective N/A.

Filed Date: 10/29/2010.

Accession Number: 20101029-5163.

Comment Date: 5 p.m. Eastern Time on Wednesday, November 10, 2010.

Docket Numbers: RP11-1461-000.

Applicants: Wyoming Interstate Company, L.L.C.

Description: Wyoming Interstate Company, L.L.C. submits tariff filing per 154.403(d)(2): Quarterly FL&U Filing to be effective 12/1/2010.

Filed Date: 10/29/2010.

Accession Number: 20101029-5169.

Comment Date: 5 p.m. Eastern Time on Wednesday, November 10, 2010.

Docket Numbers: RP11-1462-000.

Applicants: Trunkline Gas Company, LLC.

Description: Trunkline Gas Company, LLC submits tariff filing per 154.204: Negotiated Rates Filing—2, to be effective 11/1/2010.

Filed Date: 10/29/2010.

Accession Number: 20101029-5177.

Comment Date: 5 p.m. Eastern Time on Wednesday, November 10, 2010.

Docket Numbers: RP11-1463-000.

Applicants: Midcontinent Express Pipeline LLC.

Description: Midcontinent Express Pipeline LLC submits tariff filing per 154.204: Fuel Tracker Filing to be effective 12/1/2010.

Filed Date: 10/29/2010.

Accession Number: 20101029-5185.

Comment Date: 5 p.m. Eastern Time on Wednesday, November 10, 2010.

Docket Numbers: RP11-1465-000.

Applicants: Natural Gas Pipeline Company of America.

Description: Natural Gas Pipeline Company of America LLC submits tariff filing per 154.204: Negotiated Rate Filing to be effective 11/1/2010.

Filed Date: 10/29/2010.

Accession Number: 20101029-5196.

Comment Date: 5 p.m. Eastern Time on Wednesday, November 10, 2010.

Docket Numbers: RP11-1466-000.

Applicants: Texas Eastern Transmission, LP.

Description: Texas Eastern Transmission, LP submits tariff filing per 154.403: PCB TETLP DEC 2010 FILING to be effective 12/1/2010.

Filed Date: 10/29/2010.

Accession Number: 20101029-5200.

Comment Date: 5 p.m. Eastern Time on Wednesday, November 10, 2010.

Docket Numbers: RP11-1467-000.

Applicants: Trunkline LNG Company, LLC.

Description: Trunkline LNG Company, LLC submits tariff filing per 154.204: Housekeeping to be effective 12/1/2010.

Filed Date: 10/29/2010.

Accession Number: 20101029-5201.

Comment Date: 5 p.m. Eastern Time on Wednesday, November 10, 2010.

Docket Numbers: RP11-1468-000.

Applicants: Iroquois Gas Transmission System, L.P.

Description: Iroquois Gas Transmission System, L.P. submits tariff filing per 154.204: 10/29/10 Negotiated Rates—Hess to be effective 11/1/2010.

Filed Date: 10/29/2010.

Accession Number: 20101029-5203.

Comment Date: 5 p.m. Eastern Time on Wednesday, November 10, 2010.

Docket Numbers: RP11-1469-000.

Applicants: Iroquois Gas Transmission System, L.P.

Description: Iroquois Gas Transmission System, L.P. submits tariff filing per 154.204: 10/29/10 Negotiated Rates—Iberdrola to be effective 11/1/2010.

Filed Date: 10/29/2010.

Accession Number: 20101029-5204.

Comment Date: 5 p.m. Eastern Time on Wednesday, November 10, 2010.

Docket Numbers: RP11-1470-000.

Applicants: Iroquois Gas Transmission System, L.P.

Description: Iroquois Gas Transmission System, L.P. submits tariff filing per 154.204: 10/29/10 Negotiated Rates—NextEra to be effective 11/1/2010.

Filed Date: 10/29/2010.

Accession Number: 20101029-5206.

Comment Date: 5 p.m. Eastern Time on Wednesday, November 10, 2010.

Docket Numbers: RP11-1471-000.

Applicants: Northern Natural Gas Company.

Description: Northern Natural Gas Company submits tariff filing per 154.204: 20101029 Negotiated Rates to be effective 11/1/2010.

Filed Date: 10/29/2010.

Accession Number: 20101029-5209.

Comment Date: 5 p.m. Eastern Time on Wednesday, November 10, 2010.

Docket Numbers: RP11-1472-000.

Applicants: Iroquois Gas Transmission System, L.P.

Description: Iroquois Gas Transmission System, L.P. submits tariff filing per 154.204: 10/29/10 Negotiated Rates—Sempra to be effective 11/1/2010.

Filed Date: 10/29/2010.

Accession Number: 20101029-5214.

Comment Date: 5 p.m. Eastern Time on Wednesday, November 10, 2010.

Docket Numbers: RP11-1473-000.

Applicants: Colorado Interstate Gas Company.

Description: Colorado Interstate Gas Company submits tariff filing per 154.204: Raton Expansion Non Conforming Agreement Filing to be effective 12/1/2010.

Filed Date: 10/29/2010.

Accession Number: 20101029-5215.

Comment Date: 5 p.m. Eastern Time on Wednesday, November 10, 2010.

Docket Numbers: RP11-1474-000.

Applicants: ANR Pipeline Company.

Description: ANR Pipeline Company submits tariff filing per 154.601: ANR Fall Negotiated Rates to be effective 11/1/2010.

Filed Date: 10/29/2010.

Accession Number: 20101029-5216.

Comment Date: 5 p.m. Eastern Time on Wednesday, November 10, 2010.

Docket Numbers: RP11-1475-000.

Applicants: Empire Pipeline, Inc.

Description: Empire Pipeline, Inc. submits tariff filing per 154.204: Open Season Addition to be effective 11/28/2010.

Filed Date: 10/29/2010.

Accession Number: 20101029-5221.

Comment Date: 5 p.m. Eastern Time on Wednesday, November 10, 2010.

Docket Numbers: RP11-1476-000.

Applicants: Steckman Ridge, LP.

Description: Steckman Ridge, LP submits tariff filing per 154.204: SR-ConocoPhillips K 920036-R1 to be effective 11/1/2010.

Filed Date: 10/29/2010.

Accession Number: 20101029-5226.

Comment Date: 5 p.m. Eastern Time on Wednesday, November 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-28029 Filed 11-4-10; 8:45 am]

BILLING CODE 6717-01-P